DEPARTMENT OF LABOR

Employment and Training Administration

[TA-W-55,002]

Parallax Power Components, LLC, RV Converter Products, Goodland, IN; Amended Certification Regarding Eligibility To Apply for Worker Adjustment Assistance

In accordance with section 223 of the Trade Act of 1974 (19 U.S.C. 2273) the Department of Labor issued a Certification of Eligibility to Apply for Worker Adjustment Assistance on June 29, 2004, applicable to workers of Parallax Power Components, LLC, Goodland, Indiana. The notice was published in the Federal Register on August 3, 2004 (69 FR 46575).

At the request of the State agency, the Department reviewed the certification for workers of the subject firm. The workers produce finished recreational vehicle power converters.

The review shows that all workers of Parallax Power Components, LLC, in Goodland, Indiana, were previously certified eligible to apply for adjustment assistance under petition number TA-W-40,523, which expired on January 23, 2004.

Therefore, in order to avoid an overlap in worker group coverage, the Department is amending the May 20, 2003, impact date established for TA-W-55,002, to read January 24, 2004.

The amended notice applicable to TA-W-55,002 is hereby issued as follows:

All workers of Parallax Power Components, LLC, RV Converter Products Division, Goodland, Indiana, who became totally or partially separated from employment on or after January 24, 2004, through June 29, 2006, are eligible to apply for adjustment assistance under section 223 of the Trade Act of 1974.

Signed in Washington, DC, this 2nd day of September, 2004.
Elliott S. Kushner,
Certifying Officer, Division of Trade Adjustment Assistance.

[FR Doc. 04-20869 Filed 9-15-04; 8:45 am]

BILLING CODE 4510-30-M